DEPARTMENT OF HOMELAND SECURITY

Coast Guard

33 CFR Part 117

[CGD01-06-090]

Drawbridge Operation Regulations; Hutchinson River, Bronx, NY

AGENCY: Coast Guard, DHS.

ACTION: Notice of temporary deviation from regulations.

SUMMARY: The Commander, First Coast Guard District, has issued a temporary deviation from the regulation governing the operation of the AMTRAK Pelham Bay Bridge, across the Hutchinson River, mile 0.5, at New York City, New York. This deviation allows the bridge to remain in the closed position from 5 a.m. to 9 p.m. on July 23, 30, August 13, 20, and 27, 2006. This deviation is necessary to facilitate scheduled bridge maintenance.

DATES: This deviation is effective from July 23, 2006 through August 27, 2006.

ADDRESSES: Materials referred to in this document are available for inspection or copying at the First Coast Guard District, Bridge Branch Office, One South Street, New York, New York, 10004, between 7 a.m. and 3 p.m., Monday through Friday, except Federal holidays. The telephone number is (212) 668-7165. The First Coast Guard District Bridge Branch Office maintains the public docket for this temporary deviation.

FOR FURTHER INFORMATION CONTACT: Judy Leung-Yee, Project Officer, First Coast Guard District, at (212) 668-7165.

SUPPLEMENTARY INFORMATION: The AMTRAK Pelham Bay Bridge, across the Hutchinson River, mile 0.5, at New York City, New York, has a vertical clearance in the closed position of 8 feet at mean high water and 15 feet at mean low water. The existing regulation, 33 CFR 117.793, requires the bridge to open on demand.

The owner of the bridge, National Railroad Passenger Corporation (AMTRAK), requested a temporary deviation to facilitate scheduled structural bridge repairs, replacement of the track and tread plates. In order to perform the above repairs the bridge must remain in the closed position.

Under this temporary deviation the AMTRAK Pelham Bay Bridge across the Hutchinson River, mile 0.5, at New York City, New York, need not open for the passage of vessel traffic from 5 a.m. to 9 p.m. on July 23, 30, August 13, 20, and 27, 2006.

Vessels that can pass under the draw without a bridge opening may do so at all times.

In accordance with 33 CFR 117.35(c), this work will be performed with all due speed in order to return the bridge to normal operation as soon as possible. This deviation from the operating regulations is authorized under 33 CFR 117.35.

Dated: July 14, 2006.
Gary Kassof,
Bridge Program Manager, First Coast Guard District.

[FR Doc. E6-11729 Filed 7-21-06; 8:45 am]

BILLING CODE 4910-15-P